NATIONAL AERONAUTICS AND SPACE ADMINISTRATION

[Notice: 13-096]

NASA Asteroid Initiative Idea Synthesis Workshop

AGENCY: National Aeronautics and Space Administration.

ACTION: Notice of Public Conference to examine ideas in response to the recent RFI for the agency's Asteroid Initiative.

SUMMARY: The National Aeronautics and Space Administration announces a public conference to provide a status on the Agency's Asteroid Initiative planning and to enable feedback and discussion from the global community and the public.

DATES: (12 p.m. CDT) Monday, September 30, 2013-(5 p.m. CDT) Wednesday October 2, 2013

ADDRESSES: Lunar and Planetary Institute, 3600 Bay Area Boulevard, Houston, TX 77058.

FOR FURTHER INFORMATION CONTACT: Michele Gates, Senior Technical Advisor, NASA Human Exploration and Operations Mission Directorate: 202-358-1048.

SUPPLEMENTARY INFORMATION:

• The purpose of this conference is to publicly examine and synthesize highly rated responses to the NASA's Asteroid Initiative RFI. Findings will be developed and provided as inputs to NASA's planning activities.

• This conference will be streamed live online. Viewing and interactive participation options will be posted at http://www.nasa.gov/content/asteroid-initiative-idea-synthesis-workshop prior to the event.

• Due to limited seating capacity, onsite attendance is by invitation only. Invitations will be sent starting Monday, August 19.

Registration

• NASA will invite many of the RFI submitters to attend the workshop to share their ideas. Invited presenters will have the option to attend onsite, or present their ideas remotely via online virtual meeting capabilities. Presenters must R.S.V.P. through the registration form provided to them in the invitation email.

• Anyone who is not invited to present at the workshop will be able to participate virtually through live streaming forums dedicated to the workshop plenary sessions and focused track sessions.

Check In

• Workshop check-in will open at 11:00 a.m. CDT on Monday, September 30.

• All attendees must enter through the LPI main doors (3600 Bay Area Blvd., Houston, Texas 77058).

Media

News media interested in attending are required to pre-register and should contact Sarah Becky Ramsey at 202-358-1694 or Rachel Kraft at 202-358-1100 for additional information.

Security

Event attendees will receive a workshop badge upon check in. All participates are asked to keep this badge on them at all times while in the facility.

Driving Directions

All attendees must park at the University Baptist Church Clear Lake, located at 16106 Middlebrook Drive, Houston, TX 77059. A shuttle will be available throughout the workshop to and from the LPI building. A map is available at the University Baptist Church Web site.

Local Area information including additional directions and maps can be found here: http://www.hou.usra.edu/meetings/local_info/

Public Transportation

For Houston Metro information, please visit their Web site at http://www.ridemetro.org/SchedulesMaps/Default.aspx.

William Gerstenmaier,
Associate Administrator, Human Exploration & Operations Mission Directorate.

[FR Doc. 2013-20353 Filed 8-20-13; 8:45 am]

BILLING CODE 7510-13-P